UNITED STATES INTERNATIONAL TRADE COMMISSION

[USITC SE-15-011]

Government in the Sunshine Act Meeting Notice

AGENCY HOLDING THE MEETING: United States International Trade Commission.

TIME AND DATE: April 3, 2015 at 9:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. No. 731-TA-1269 (Preliminary) (Silicomanganese from Australia). The Commission is currently scheduled to complete and file its determination on April 6, 2015; views of the Commission are currently scheduled to be completed and filed on April 13, 2015.

5. Outstanding action jackets: None.

In accordance with Commission policy, subject matter listed above, not disposed of at the scheduled meeting, may be carried over to the agenda of the following meeting.

Dated: Issued: March 25, 2015.
By order of the Commission.
William R. Bishop,
Supervisory Hearings and Information Officer.

[FR Doc. 2015-07282 Filed 3-26-15; 11:15 am]

BILLING CODE 7020-02-P